DEPARTMENT OF COMMERCE

International Trade Administration

[A-580-839, A-583-833]

Polyester Staple Fiber From the Republic of Korea and Taiwan: Final Results of Changed Circumstances Reviews, and Revocation of Antidumping Duty Orders, in Part

AGENCY: Enforcement and Compliance, International Trade Administration, Department of Commerce.

SUMMARY: For the final results of these changed circumstances reviews (CCRs), the Department of Commerce (Commerce) is revoking, in part, the antidumping duty (AD) orders on polyester staple fiber (PSF) from the Republic of Korea (Korea) and Taiwan with respect to certain low-melt PSF.

DATES: Applicable May 18, 2018.

FOR FURTHER INFORMATION CONTACT: Emily Halle or Nicholas Czajkowski, AD/CVD Operations, Enforcement and Compliance, International Trade Administration, U.S. Department of Commerce, 1401 Constitution Avenue NW, Washington, DC 20230; telephone (202) 482-0176 or (202) 482-1395, respectively.

SUPPLEMENTARY INFORMATION:

Background

On March 16, 2018, Commerce published the notice of initiation of the CCRs requested by DAK Americas, LLC; Nan Ya Plastics Corporation, America; Auriga Polymers; and Palmetto Synthetics LLC (i.e., the domestic producers) pursuant to section 751(b)(1) of the Tariff Act of 1930, as amended (the Act) and 19 CFR 351.216(b). The domestic producers requested the revocation of the orders with respect to any low-melt PSF that may be covered by the Orders ¹ to avoid any potential overlap in coverage between the Orders and the AD orders that may result from the pending less-than-fair-value investigations of low-melt polyester staple fiber from Korea and Taiwan.²

¹ See Notice of Amended Final Determination of Sales at Less Than Fair Value: Certain Polyester Staple Fiber from the Republic of Korea and Antidumping Duty Orders: Certain Polyester Staple Fiber from the Republic of Korea and Taiwan, 65 FR 33807 (May 25, 2000) (Orders).

² See Polyester Staple Fiber from the Republic of Korea and Taiwan: Initiation of Changed Circumstances Reviews, and Consideration of Revocation of the Antidumping Duty Orders in Part, 83 FR 11678 (March 16, 2018) (Initiation Notice); see also Low Melt Polyester Staple Fiber from the Republic of Korea and Taiwan: Initiation of Less-Than-Fair-Value Investigations, 82 FR 34277 (July 24, 2017); Low Melt Polyester Staple Fiber from the Republic of Korea: Preliminary Affirmative Determination of Sales at Less Than Fair Value, Preliminary Affirmative Determination of Critical Circumstances, in Part, Postponement of Final Determination, and Extension of Provisional Measures, 83 FR 4906 (February 2, 2018); and Low Melt Polyester Staple Fiber from Taiwan: Preliminary Affirmative Determination of Sales at Less Than Fair Value, Postponement of Final Determination, and Extension of Provisional Measures, 83 FR 4903 (February 2, 2018).

On April 19, 2018, Commerce published the preliminary results of these CCRs, in which it found that producers accounting for substantially all of the production of the domestic like product to which the Orders pertain lack interest in the relief afforded by the Orders with respect to certain low-melt PSF.³ Commerce invited interested parties to submit comments on the preliminary results. We received no comments.

³ See Polyester Staple Fiber from the Republic of Korea and Taiwan: Preliminary Results of Changed Circumstances Reviews, and Intent To Revoke Antidumping Duty Orders in Part, 83 FR 17364 (April 19, 2018).

Final Results of Changed Circumstances Reviews, and Revocation of the Orders, in Part

Because no party submitted comments opposing Commerce's preliminary results, and the record contains no other information or evidence that calls into question the preliminary results, Commerce determines, pursuant to section 751(d)(1) of the Act, section 782(h) of the Act, and 19 CFR 351.222(g), that there are changed circumstances that warrant revocation of the Orders, in part. Specifically, because the producers accounting for substantially all of the production of the domestic like product to which the Orders pertain lack interest in the relief provided by the Orders with respect to the following type of PSF, we are revoking the Orders, in part, by replacing the following language currently in the scope of the Orders: “{i}n addition, low-melt PSF is excluded from these orders. Low-melt PSF is defined as a bi-component fiber with an outer sheath that melts at a significantly lower temperature than its inner core,” with the following language: “{i}n addition, low-melt PSF is excluded from these orders. Low-melt PSF is defined as a bi-component polyester fiber having a polyester fiber component that melts at a lower temperature than the other polyester fiber component.” The scope description below includes this replacement language.

Scope of the Orders

The product covered by the Orders is certain polyester staple fiber (PSF). PSF is defined as synthetic staple fibers, not carded, combed or otherwise processed for spinning, of polyesters measuring 3.3 decitex (3 denier, inclusive) or more in diameter. This merchandise is cut to lengths varying from one inch (25 mm) to five inches (127 mm). The merchandise subject to these Orders may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (HTSUS) at subheading 5503.20.00.25 is specifically excluded from these orders. Also specifically excluded from these Orders are polyester staple fibers of 10 to 18 denier that are cut to lengths of 6 to 8 inches (fibers used in the manufacture of carpeting). In addition, low-melt PSF is excluded from these Orders. Low-melt PSF is defined as a bi-component polyester fiber having a polyester fiber component that melts at a lower temperature than the other polyester fiber component.

The merchandise subject to these Orders is currently classifiable in the HTSUS at subheadings 5503.20.00.45 and 5503.20.00.65.⁴ Although the HTSUS subheadings are provided for convenience and customs purposes, the written description of the merchandise under the Orders is dispositive.

⁴ These HTSUS numbers have been revised to reflect changes in the HTSUS numbers at the suffix level.

Instructions to U.S. Customs and Border Protection

Because we determine that there are changed circumstances that warrant the revocation of the Orders, in part, we will instruct U.S. Customs and Border Protection (CBP) to liquidate without regard to antidumping duties, and to refund any estimated antidumping duties, on all unliquidated entries of the merchandise covered by this partial revocation that are not covered by the final results of an administrative review or automatic liquidation.⁵

⁵ The most recent administrative review of the Korea AD order was completed on August 2, 2017, and covered the period of review (POR) May 1, 2016 through April 30, 2017. See Polyester Staple Fiber from the Republic of Korea: Rescission of Antidumping Duty Administrative Review; 2016-2017, 82 FR 37052 (August 8, 2017) (which rescinds the review for the Korea AD order, A-580-839). For the Taiwan AD order, A-583-833, Commerce did not receive a request to conduct an administrative review for the POR May 1, 2016 through April 30, 2017. Commerce issued instructions to CBP on July 21, 2017, liquidating all entries for all firms for the POR. Therefore, the partial revocation for merchandise subject to the Orders will be applied retroactively to unliquidated entries of merchandise entered or withdrawn from warehouse, for consumption, on or after May 1, 2017.

Notification to Interested Parties

This notice serves as a reminder to parties subject to an administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results and revocation, in part, and notice in accordance with sections 751(b) and 777(i) of the Act and 19 CFR 351.216, 19 CFR 351.221(c)(3), and 19 CFR 351.222.

Dated: May 11, 2018.
Gary Taverman,
Deputy Assistant Secretary for Antidumping and Countervailing Duty Operations, performing the non-exclusive functions and duties of the Assistant Secretary for Enforcement and Compliance.

[FR Doc. 2018-10644 Filed 5-17-18; 8:45 am]

BILLING CODE 3510-DS-P